DEPARTMENT OF HEALTH AND HUMAN SERVICES

Health Resources and Services Administration

The National Advisory Council on the National Health Service Corps; Notice for Request for Nominations

SUMMARY: The Health Resources and Services Administration (HRSA) is requesting nominations to fill vacancies on The National Advisory Council on the National Health Service Corps (hereafter referred to as NACNHSC). The NACNHSC was established under 42 U.S.C. 254j (Section 337 of the Public Health Service Act), as amended by Section 10501 of the Affordable Care Act. The NAC is governed by provisions of 92 (5 U.S.C. App. 2), also known as the Federal Advisory Committee Act, which sets forth standards for the formation and use of advisory committees.

DATES: The agency will receive nominations on a continuous basis.

ADDRESSES: All nominations should be submitted to Regina Wilson, Advisory Council Operations, Bureau of Health Workforce, HRSA, 11w45c, 5600 Fishers Lane, Rockville, Maryland 20857. Mail delivery should be addressed to Regina Wilson, Advisory Council Operations, Bureau of Health Workforce, HRSA, at the above address, or via email to: RWilson@hrsa.gov.

FOR FURTHER INFORMATION CONTACT: CAPT Shari Campbell, Designated Federal Official, National Advisory Council on National Health Service Corps at (301) 594-4251 or email scampbell@hrsa.gov. A copy of the current committee membership, charter and reports can be obtained by accessing the http://nhsc.hrsa.gov/corpsexperience/aboutus/nationaladvisorycouncil/index.html.

SUPPLEMENTARY INFORMATION: The NACNHSC is a group of health care providers and health care site administrators who are experts in the issues that communities with a shortage of primary care professionals face in meeting their health care needs. The NACNHSC is committed to effectively implementing its mandate to advise the Secretary of the Department of Health and Human Services (HHS) and, by designation, the Administrator of the Health Resources and Services Administration (HRSA).

The NACNHSC consists of 15 members who are Special Government Employees. Responsibilities of the Council include: (1) Serving as a forum to identify the priorities for the NHSC and bring forward and anticipate future program issues and concerns through ongoing communication with program staff, professional organizations, communities and program participants; (2) functioning as a sounding board for proposed policy changes by utilizing the varying levels of expertise represented on the Council to advise on specific program areas; (3) developing and distributing white papers and briefs that clearly state issues and/or concerns relating to the NHSC with specific recommendations for necessary policy revisions.

Specifically, HRSA is requesting nominations for voting members of the NACNHSC representing primary care, dental health, and mental health that demonstrate the following areas of expertise: (1) Working with underserved populations; (2) health care policy, recruitment and retention; (3) site administration; (4) customer service; (5) marketing; (6) organizational partnerships; (7) research; (8) and clinical practice. We are looking for nominees that either currently hold or have previously filled a role as site administrators, physicians, dentists, mid-level professionals (i.e., nurses, physician assistants), mental or behavioral health professionals, and National Health Service Corps scholars or loan repayors.

The Department of Health and Human Services (HHS) will consider nominations of all qualified individuals with the areas of subject matter expertise noted above. Individuals may nominate themselves or other individuals, and professional associations and organizations may nominate one or more qualified persons for membership. Nominations shall state that the nominee is willing to serve as a member of the NACNHSC and appears to have no conflict of interest that would preclude the NACNHSC membership. Potential candidates will be asked to provide detailed information concerning financial interests, consultancies, research grants, and/or contracts that might be affected by recommendations of the NACNHSC to permit evaluation of possible sources of conflicts of interest.

A nomination package should include the following information for each nominee:

(1) A letter of nomination stating the name, affiliation, and contact information for the nominee, the basis for the nomination (i.e., what specific attributes, perspectives, and/or skills does the individual possess that would benefit the workings of the NACNHSC); (2) a biographical sketch of the nominee and a copy of his/her curriculum vitae; and (3) the name, address, daytime telephone number, and email address at which the nominator can be contacted. Nominations will be considered as vacancies occur on the NACNHSC. Nominations should be updated and resubmitted every 3 years to continue to be considered for committee vacancies.

HHS strives to ensure that the membership of HHS federal advisory committees is balanced in terms of points of view represented and the committee's function. Every effort is made to ensure that the views of women, all ethnic and racial groups, and people with disabilities are represented on HHS federal advisory committees. The Department also encourages geographic diversity in the composition of the committee. The Department encourages nominations of qualified candidates from all groups and locations. Appointment to the NACNHSC shall be made without discrimination on the basis of age, race, ethnicity, gender, sexual orientation, disability, and cultural, religious, or socioeconomic status.

Jackie Painter,
Director, Division of the Executive Secretariat.

[FR Doc. 2015-28917 Filed 11-13-15; 8:45 am]

BILLING CODE 4165-15-P